DEPARTMENT OF JUSTICE

Office of Community Oriented Policing Services

Agency Information Collection Activities: Proposed Collection: Comment Request

ACTION: Notice of Information Collection under Review: Extension of a Currently Approved Collection; COPS Grant Status Survey.

Office of Management and Budget (OMB) approval is being sought for the information collection listed below. This proposed information collection was previously published in the Federal Register and allowed 60 days for public comment.

The purpose of this notice is to allow an additional 30 days for public comments from the date listed at the top of this page in the Federal Register. This process is conducted in accordance with 5 Code of Federal Regulation, § 1320.10.

Written comments and/or suggestions regarding the items contained in this notice, especially regarding the estimated public burden and associated response time, should be directed to the Office of Management and Budget, Office of Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1220, 1331 Pennsylvania Avenue, NW, Washington, DC 20530.

Written comments may also be submitted to Marcia O. Samuels, COPS Count Project Manager, Office of Community Oriented Policing Services, Grant Monitoring Division, 1100 Vermont Avenue, NW., Washington, DC 20530, or via facsimile at (202) 633-1293.

Written comments and suggestions from the public and affected agencies should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information, e.g., permitting electronic submission of responses.

Overview of This Collection

1. Type of Information Collection: Second collection.

2. Title of the Form/Collection: COPS Grant Status Survey.

3. Agency form number, if any, and the applicable component of the Department of Justice sponsoring the collection: Form: COPS 301/01. Office of Community Oriented Policing Services, U.S. Department of Justice.

4. Affected public who will be asked or required to respond, as well as a brief abstract: The COPS Count Project surveys agencies who currently have been awarded a Hiring and/or MORE grants from the COPS Office. The information collected provides an accurate up to date account on the status of officers hired/redeployed.

5. An estimate of the total number of respondents and the amount of time estimated for an average respondent to respond: Estimated number of respondents: 11,559. Estimated time for average respondent to respond: 1 hour annually.

6. An estimate of the total of public burden (in hours) associated with the collection: Approximately 11,559 annual burden hours.

If additional information is required contact: Mrs. Brenda E. Dyer, Deputy Clearance Officer, United States Department of Justice, Information Management and Security Staff, Justice Management Division, Suite 1220, National Place, 1331 Pennsylvania Avenue NW, Washington, DC 20530.

Dated: July 31, 2000.
Brenda E. Dyer,
Department Deputy Clearance Officer.

[FR Doc. 00-19687 Filed 8-2-00; 8:45 am]

BILLING CODE 4410-18-M